DEPARTMENT OF ENERGY

Federal Energy Regulatory Commission

Notice of Application Tendered for Filing With the Commission, Soliciting Additional Study Requests, and Establishing Procedures for Relicensing and a Deadline for Submission of Final Amendments

October 3, 2001.

Take notice that the following hydroelectric application has been filed with the Commission and is available for public inspection.

a. Type of Application: New Minor License.

b. Project No.: 2935-015.

c. Date Filed: September 24, 2001.

d. Applicant: Enterprise Mill, LLC.

e. Name of Project: Enterprise Mill Hydroelectric Project.

f. Location: On the Augusta Canal about 6 miles downstream of the Augusta Canal diversion dam, adjacent to the Savannah River, Richmond County, Augusta, GA. The project is one of three hydropower projects located in the Augusta Canal. The project does not affect Federal lands.

g. Filed Pursuant to: Federal Power Act 16 U.S.C. §§ 791 (a)-825(r).

h. Applicant Contact: Beth E. Harris, Project Engineer, CHI Energy, Inc., P.O. Box 8597, Greenville, SC 29604, (864) 281-9630.

i. FERC Contact: Monte TerHaar, (202) 219-2768 or monte.terhaar@ferc.fed.us.

j. Deadline for filing additional study requests: November 26, 2001.

All documents (original and eight copies) should be filed with: David P. Boergers, Secretary, Federal Energy Regulatory Commission, 888 First Street, NE, Washington, DC 20426. Comments, protests and interventions may be filed electronically via the Internet in lieu of paper. See, 18 CFR 385.2001(a)(1)(iii) and the instructions on the Commission's web site under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time. We are not requesting intervenors to this project at this time.

l. The existing Enterprise Mill Hydroelectric Project consists of: (1) There is no dam or impoundment, as approximately 580 cfs of water is withdrawn from the Augusta Canal when operating at full capacity; (2) two steel sliding, vertical lift intake gates; (3) primary and secondary steel trash racks; (4) two 300-foot-long, 8-foot diameter penstocks; (5) two vertical shaft turbine/generator units with an installed capacity of 1.2 megawatts: (6) an 850-foot-long tailrace returning flow to the Augusta Canal, and (7) appurtenant facilities. The applicant estimates that the annual generation would be between 5,000 and 8,000 megawatthours. Generated power is utilized within the applicant's Enterprise Mill which houses residential and commercial tenants, and excess power will be sold to Georgia Power Company. No new facilities are proposed.

m. A copy of the application is available for inspection and reproduction at the Commission's Public Reference Room, located at 888 First Street, NE, Room 2-A, Washington, DC 20426, or by calling (202) 208-1371. Copies of this filing are on file with the Commission and are available for public inspection. This filing may also be viewed on the web at http://www.ferc.gov using the “RIMS” link, selected “Docket#” and follow the instructions (call 202-208-2222 for assistance). A copy is also available for inspection and reproduction at the address in item h above.

n. With this notice, we are initiating consultation with the Georgia State Historic Preservation Officer (SHPO), as required by § 106, National Historic Preservation Act, and the regulations of the advisory Council on Historic Preservation, 36 CFR 800.4.

o. Procedural schedule and final amendments: The application will be processed according to the following milestones, some of which may be combined to expedite processing:

Notice of application has been accepted for filing

Notice or NEPA Scoping

Notice of application is ready for environmental analysis

Notice soliciting final terms and conditions

Notice of the availability of the draft NEPA document (draft EA)

Notice of the availability of the final NEPA document (final EA)

Order issuing the Commission's decision on the application

Final amendments to the application must be filed with the Commission no later than 30 days from the issuance date of the notice of ready for environmental analysis.

David P. Boergers,
Secretary.

[FR Doc. 01-25364 Filed 10-9-01; 8:45 am]

BILLING CODE 6717-01-M